DEPARTMENT OF HEALTH AND HUMAN SERVICES

Centers for Disease Control and Prevention

[Request for Application (RFA) 05047]

Environmental Health Academic Programs; Notice of Intent To Fund Single Eligibility Award

A. Purpose

The Centers for Disease Control and Prevention (CDC) announces the intent to fund fiscal year (FY) 2005 funds for a cooperative agreement program to improve State, tribal and local environmental health infrastructure by strengthening and diversifying accredited environmental health programs; preparing future professionals to enter the environmental public health workforce, and educating current professionals in the core competencies of environmental health, along with new and emerging environmental health technologies and methodologies; increasing recruitment, enrollment, retention and graduation rates at accredited environmental health programs; and increasing the number of programs accredited by the National Environmental Health Science and Protection Accreditation Council (NEHSPAC). The Catalog of Federal Domestic Assistance number for this program is 93.283.

B. Eligible Applicant

Application may be submitted by the Association of Environmental Health Academic Programs (AEHAP). No other applications are solicited.

AEHAP is the only organization eligible to conduct this program for the following reasons:

1. AEHAP is the only organization representing all of the undergraduate and graduate institutions with academic programs of environmental health accredited by National Environmental Health Science and Protection Accreditation Council (NEHSPAC) along with programs that are seeking accreditation.

2. AEHAP, through its close association with NEHSPAC, has established the critical framework for non-member institutions to gain membership in NEHSPAC as accredited members so that the technical competence, managerial capacity and leadership potential of accredited undergraduate and graduate programs in environmental health are increased.

3. AEHAP is uniquely positioned to frequently communicate and consult with all of the accredited undergraduate and graduate programs of environmental health, as well as those seeking accreditation because those programs are part of AEHAP existing membership.

4. AEHAP has the documented ability to build effective partnerships and collaborative relationships with federal health agencies and appropriate national organizations to increase accredited environmental health programs.

5. AEHAP provides the structure and experience for instituting mentoring programs to universities that do not have accredited environmental health programs, ultimately leading to strengthened environmental health systems at the State, tribal and local levels. For example AEHAP, through its existing affiliation with universities with non-accredited environmental health programs, can recruit, mentor and train new programs, and can encourage and promote growth of qualified academic institutions whose goal is to provide qualified entry-level environmental health practitioners.

6. AEHAP member programs have provided technical support and consultation to State, tribal and local environmental public health programs through partnerships that have existed for up to 35 years.

C. Funding

Approximately $164,000 is available in FY 2005 to fund this award. It is expected that the award will begin on or before August 31, 2005, and will be made for a 12-month budget period within a project period of up to 3 years. Funding estimates may change.

D. Where to Obtain Additional Information

For general comments or questions about this announcement, contact: Technical Information Management, CDC Procurement and Grants Office, 2920 Brandywine Road, Atlanta, GA 30341-4146, Telephone: 770-488-2700.

For technical questions about this program, contact:

Dorothy Stephens, Project Officer, 4770 Buford Highway, Atlanta, GA 30341, Telephone: 770-488-7099, Fax: 770-488-7310, E-mail: dstephens@cdc.gov; or

Mike Herring, Technical Officer, 4770 Buford Highway, Atlanta, GA 30341, Telephone: 770-488-7351, Fax: 770-488-7310, E-mail: mherring@cdc.gov.

For financial, grants management, or budget assistance, contact: Edna Green, Grants Management Specialist, CDC Procurement and Grants Office, 2920 Brandywine Road, Atlanta, GA 30341, Telephone: 770-488-2743, E-mail: egreen@cdc.gov.

William P. Nichols,
Director, Procurement and Grants Office, Centers for Disease Control and Prevention.

[FR Doc. 05-10404 Filed 5-24-05; 8:45 am]

BILLING CODE 4163-18-P